DEPARTMENT OF TRANSPORTATION

Federal Aviation Administration

14 CFR Part 39

[Docket No. FAA-2016-9116; Directorate Identifier 2016-NM-130-AD; Amendment 39-18672; AD 2016-20-06]

RIN 2120-AA64

Airworthiness Directives; Gulfstream Aerospace Corporation Airplanes

AGENCY: Federal Aviation Administration (FAA), DOT.

ACTION: Final rule; request for comments.

SUMMARY: We are adopting a new airworthiness directive (AD) for all Gulfstream Aerospace Corporation Model G-1159, G-1159A, G-1159B, and G-IV airplanes. This AD requires revision of the maintenance or inspection program to establish the life limit of all elevator assemblies and skins on affected airplanes. This AD was prompted by the need to establish life limits for certain elevator assemblies and skins. We are issuing this AD to prevent failure of the elevator assembly and consequent loss of control of the airplane.

DATES: This AD is effective October 14, 2016.

The Director of the Federal Register approved the incorporation by reference of certain publications listed in this AD as of September 23, 2016 (81 FR 61987, September 8, 2016).

We must receive comments on this AD by November 14, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this final rule, contact Gulfstream Aerospace Corporation, Technical Publications Dept., P.O. Box 2206, Savannah, GA 31402-2206; telephone 800-810-4853; fax 912-965-3520; email pubs@gulfstream.com; Internet http://www.gulfstream.com/product_support/technical_pubs/pubs/index.htm. You may view this referenced service information at the FAA, Transport Airplane Directorate, 1601 Lind Avenue SW., Renton, WA. For information on the availability of this material at the FAA, call 425-227-1221. It is also available on the Internet at http://www.regulations.gov by searching for and locating Docket No. FAA-2016-9116.

Examining the AD Docket

You may examine the AD docket on the Internet at http://www.regulations.gov by searching for and locating Docket No. FAA-2016-9116; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: William O. Herderich, Aerospace Engineer, Airframe Branch, ACE-117A, FAA, Atlanta Aircraft Certification Office (ACO), 1701 Columbia Avenue, College Park, Georgia 30337; phone: 404-474-5547; fax: 404-474-5606; email: William.O.Herderich@faa.gov.

SUPPLEMENTARY INFORMATION:

Discussion

We have determined that it is necessary to establish life limits for certain elevator assemblies and skins. Certain elevator assemblies and skins were reidentified with numbers not listed in the life limits section of the airplane maintenance manual. As a result, the life limit requirement was inadvertently removed. An airplane with an elevator assembly or skin that has exceeded its life limit could experience elevator failure and loss of control. We are issuing this AD to correct the unsafe condition on these products.

Related Service Information Under 1 CFR Part 51

We reviewed the following temporary revisions (TRs):

• Gulfstream II Maintenance Manual TR 5-3, dated April 15, 2016.

• Gulfstream IIB Maintenance Manual TR 5-3, dated April 15, 2016.

• Gulfstream III Maintenance Manual TR 5-2, dated April 15, 2016.

• Gulfstream IV Maintenance Manual TR 5-7, dated April 29, 2016.

This service information establishes life limits for elevator assemblies. This service information is reasonably available because the interested parties have access to it through their normal course of business or by the means identified in the ADDRESSES section.

FAA's Determination

We are issuing this AD because we evaluated all the relevant information and determined the unsafe condition described previously is likely to exist or develop in other products of the same type design.

AD Requirements

This AD requires revising the maintenance or inspection program, as applicable, to establish life limits for certain elevator assemblies and skins.

Due to a delay in defining and developing the corrective action that will address the identified unsafe condition, some elevator assemblies may exceed their life limits soon. Because we have determined that exceeding those life limits can result in loss of airplane control, we have determined that it is necessary to issue this AD without notice and opportunity for prior public comment. We consider 30 days the maximum amount of time for operators to revise their maintenance or inspection programs without compromising safety.

FAA's Justification and Determination of the Effective Date

An unsafe condition exists that requires the immediate adoption of this AD. The FAA has found that the risk to the flying public justifies waiving notice and comment prior to adoption of this rule because failure of the elevator could result in loss of control of the airplane. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2016-9116 and Directorate Identifier 2016-NM-130-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 596 airplanes of U.S. registry. We estimate the following costs to comply with this AD:

Estimated Costs
Action | Labor cost | Parts cost | Cost per product | Cost on U.S. operators
Maintenance/inspection program revision | 1 work-hour × $85 per hour = $85 | $0 | $85 | $50,660

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-20-06 Gulfstream Aerospace Corporation: Amendment 39-18672; Docket No. FAA-2016-9116; Directorate Identifier 2016-NM-130-AD.

(a) Effective Date

This AD is effective October 14, 2016.

(b) Affected ADs

None.

(c) Applicability

This AD applies to all Gulfstream Aerospace Corporation Model G-1159, G-1159A, G-1159B, and G-IV airplanes, certificated in any category.

(d) Subject

Air Transport Association (ATA) of America Code 27, Flight controls.

(e) Unsafe Condition

This AD was prompted by the need to establish life limits for elevator assemblies and skins. We are issuing this AD to prevent failure of the elevator assembly and consequent loss of control of the airplane.

(f) Compliance

Comply with this AD within the compliance times specified, unless already done.

(g) Revision of Maintenance/Inspection Program

Within 30 days after the effective date of this AD, revise the maintenance or inspection program, as applicable, to incorporate the life limits identified in paragraphs (g)(1) through (g)(4) of this AD, as applicable. The initial compliance time to replace the elevator assembly and skins, as specified in the temporary revision (TR), is as specified in the applicable TR, or within 30 days after the effective date of this AD, or within 10 flight cycles after the effective date of this AD, whichever occurs latest.

(1) For Model G-1159 airplanes: Life limits for elevator skin part numbers 1159CS20002 and 1159SB30209 as specified in Gulfstream II Maintenance Manual TR 5-3, dated April 15, 2016.

(2) For Model G-1159B airplanes: Life limits for elevator part number 1159SB30209 as specified in Gulfstream IIB Maintenance Manual TR 5-3, dated April 15, 2016.

(3) For Model G-1159A airplanes: Life limit for elevator part number 1159SB30209 as specified in Gulfstream III Maintenance Manual TR 5-2, dated April 15, 2016.

(4) For Model G-IV airplanes: Life limit for elevator part number 1159SB40518 as specified in Gulfstream IV Maintenance Manual TR 5-7, dated April 29, 2016.

(h) No Alternative Actions and Intervals

After the maintenance or inspection program has been revised as required by paragraph (g) of this AD, no alternative actions (e.g., inspections) or intervals may be used unless the actions or intervals are approved as an alternative method of compliance (AMOC) in accordance with the procedures specified in paragraph (j) of this AD.

(i) Special Flight Permit

A special flight permit may be issued in accordance with sections 21.197 and 21.199 of the Federal Aviation Regulations (14 CFR 21.197 and 21.199) to operate the airplane, for one flight only, to a location where the elevator assembly can be replaced, as required by paragraph (g) of this AD.

(j) Alternative Methods of Compliance (AMOCs)

(1) The Manager, Atlanta Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(k) Related Information

For more information about this AD, contact William O. Herderich, Aerospace Engineer, Airframe Branch, ACE-117A, FAA, Atlanta Aircraft Certification Office (ACO), 1701 Columbia Avenue, College Park, Georgia 30337; phone: 404-474-5547; fax: 404-474-5606; email: William.O.Herderich@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 23, 2016 (81 FR 61987, September 8, 2016).

(i) Gulfstream II Maintenance Manual TR 5-3, dated April 15, 2016.

(ii) Gulfstream IIB Maintenance Manual TR 5-3, dated April 15, 2016.

(iii) Gulfstream III Maintenance Manual TR 5-2, dated April 15, 2016.

(iv) Gulfstream IV Maintenance Manual TR 5-7, dated April 29, 2016.

(4) For service information identified in this AD, contact Gulfstream Aerospace Corporation, Technical Publications Dept., P.O. Box 2206, Savannah, GA 31402-2206; telephone 800-810-4853; fax 912-965-3520; email pubs@gulfstream.com; Internet http://www.gulfstream.com/product_support/technical_pubs/pubs/index.htm.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to http://www.archives.gov/federal-register/cfr/ibr-locations.html.

Issued in Renton, Washington, on September 15, 2016.
Suzanne Masterson,
Acting Manager, Transport Airplane Directorate, Aircraft Certification Service.

[FR Doc. 2016-23091 Filed 9-28-16; 8:45 am]

BILLING CODE 4910-13-P